DEPARTMENT OF LABOR

Office of the Secretary

Submission for OMB Review; Comment Request

June 25, 2001.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Marlene Howze at (202) 693-4158 or Email Howze-Marlene@dol.gov.

Comments should be sent to Office of Information and Regulatory Affairs, Attn: OMB Desk Officer for BLS, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission or responses.

Type of Review: Extension of a currently approved collection.

Agency: Bureau of Labor Statistics (BLS).

Title: General Inquiries to State Agency Contacts.

OMB Number: 1220-0168.

Affected Public: State, Local, or Tribal Government.

Frequency: As needed.

Number of Respondents: 55.

Number of Annual Responses: 23,890.

Estimated Time Per Response: 40 minutes (average).

Total Burden Hours: 15,762.

Total Annualized Capital/Startup Costs: $0.

Total Annual Costs (operating/maintaining systems or purchasing services): $0.

Description: The Bureau of Labor Statistics (BLS) awards funds to State agencies in the 50 States, the District of Columbia, Puerto Rico, Guam, American Samoa, and Virgin Islands (hereinafter referred to as the “States”) of the operation of the Labor Market Information (LMI) and/or Occupational Safety and Health Statistics (OSHS) Federal/State cooperative statistical programs.

To ensure the timely flow of information and to be able to evaluate and improve BLS/State cooperative programs, it is necessary to conduct ongoing communications between the BLS and its State partners. Whether information requests deal with program deliverables, program enhancements, or administrative issues, questions and dialogue are crucial.

In order to conduct these communications, the BLS is requesting OMB approval of general inquiries, allowing dialogue between the BLS and its State partners. Due to the day-to-day and sometimes urgent nature of these information requests, these inquiries are conducted on an ongoing basis.

Ira L. Mills,
Departmental Clearance Officer.

[FR Doc. 01-17401 Filed 7-10-01; 8:45 am]

BILLING CODE 4510-24-M